DEPARTMENT OF LABOR

Office of the Secretary

Submission for OMB Review; Comment Request

September 24, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or e-mail Howze-Marlene@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review; Extension of a currently approved collection.

Agency: Employment and Training Administration (ETA).

Title: Tax Performance System.

OMB Number: 1205-0332.

Affected Public: State, Local or Tribal Government.

Estimated Time Per Response and Total Burden Hours:

Activity | Frequency | Number of respondents | Total annual responses | Estimated hours/response | Total annual burden (hours)
Methods Survey | Annually | 52 | 52 | 11 | 572
Program Review | Annually | 52 | 52 | 1,734 | 90,168
Data Entry | Annually | 52 | 52 | 5 | 260
Totals |  |  |  | 1,750 | 91,000

Total Annualized Capital/Startup Costs: $0.

Total Annual Costs (operating/maintaining systems or purchasing services): $0.

Description: Section 303(a)(1) of the Social Security Act gives the Secretary of Labor several responsibilities toward the Unemployment Insurance (UI) system. The Tax Performance System (TPS) is intended to assist State administrators in improving their Unemployment Insurance (UI) program by providing objective information on the quality of existing revenue operations. TPS will also serve to help the U.S. Department of Labor carry out its oversight, technical assistance, and policy development responsibilities. If TPS data are not collected, information relative to UI tax performance according to the requirements of Federal law will not be produced, and many deficiencies in state tax operations will go unnoticed.

Ira L. Mills,
Departmental Clearance Officer.

[FR Doc. 02-25174 Filed 10-2-02; 8:45 am]

BILLING CODE 4510-30-M